DEPARTMENT OF VETERANS AFFAIRS

Advisory Committee on Cemeteries and Memorials, Notice of Meeting, Amended

The Department of Veterans Affairs (VA) gives notice under the Federal Advisory Committee Act that a meeting of the Advisory Committee on Cemeteries and Memorials will be held on May 7-May 8, 2019. The meeting sessions will take place at the Veterans of Foreign Wars Memorial Building, 200 Maryland Avenue NE, Washington, DC 20002. The meeting sessions will begin as follows:

Date | Time
May 7, 2019 | 8:30 a.m. to 4:30 p.m. EST.
May 8, 2019 | 8:30 a.m. to 3:30 p.m. EST.

The meeting sessions are open to the public. If you're interested in attending the meeting virtually, the dial in number for both days is 1-800-767-1750, 02668#.

The purpose of the Committee is to advise the Secretary of Veterans Affairs on the administration of national cemeteries, soldiers' lots and plots, the selection of new national cemetery sites, the erection of appropriate memorials, and the adequacy of Federal burial benefits. The Committee will make recommendations to the Secretary regarding such activities.

On Tuesday, May 7, 2019, the Committee agenda will include remarks by the VA Leadership, Ethics refresher training, briefing from the Advisory Committee Management Office, introductions of new member appointments, and status updates from NCA Staff and Ex-Officios.

On May 8, 2019, the agenda will include status updates on the National Cemetery Scheduling Office, Pre-Need Burial Eligibility Determinations, burial needs for Native American Veterans, status updates from NCA Staff and Ex-Officio, recommendations new charges, and next steps.

Any member of the public wishing to attend the meeting should contact Ms. Christine Hamilton, Designated Federal Officer, at (202) 461-5681. The Committee will also accept written comments. Comments may be transmitted electronically to the Committee at Christine.hamilton1@va.gov or mailed to the National Cemetery Administration (40A1), 810 Vermont Avenue NW, Room 400, Washington, DC 20420. In the public's communications with the Committee, the writers must identify themselves and state the organizations, associations, or persons they represent.

Dated: April 19, 2019.
Jelessa M. Burney,
Federal Advisory Committee Management Officer.

[FR Doc. 2019-08223 Filed 4-23-19; 8:45 am]

BILLING CODE P